ENVIRONMENTAL PROTECTION AGENCY

[EPA-HQ-OECA-2011-0206; FRL-9467-5]

Agency Information Collection Activities; Submission to OMB for Review and Approval; Comment Request; NESHAP for Leather Finishing Operations (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before October 20, 2011.

ADDRESSES: Submit your comments, referencing docket ID number EPA-HQ-OECA-2011-0206, to: (1) EPA online using http://www.regulations.gov (our preferred method), or by email to docket.oeca@epa.gov, or by mail to: EPA Docket Center (EPA/DC), Environmental Protection Agency, Enforcement and Compliance Docket and Information Center, mail code 28221T, 1200 Pennsylvania Avenue, NW., Washington, DC 20460; and (2) OMB at: Office of Information and Regulatory Affairs, Office of Management and Budget (OMB), Attention: Desk Officer for EPA, 725 17th Street, NW., Washington, DC 20503.

FOR FURTHER INFORMATION CONTACT: Learia Williams, Monitoring, Assistance, and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 9, 2011 (76 FR 26900), EPA sought comments on this ICR pursuant to 5 CFR 1320.8(d). EPA received no comments. Any additional comments on this ICR should be submitted to EPA and OMB within 30 days of this notice.

EPA has established a public docket for this ICR under docket ID number EPA-HQ-OECA-2011-0206, which is available for public viewing online at http://www.regulations.gov, and in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to either submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NESHAP for Leather Finishing Operations (Renewal).

ICR Numbers: EPA ICR Number 1985.05, OMB Control Number 2060-0478.

ICR Status: This ICR is schedule to expire on November 30, 2011. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for Leather Finishing Operations were proposed on October 2, 2000 (65 FR 58702), and promulgated on February 27, 2002. These standards apply to any existing, reconstructed, or new leather finishing operations. A leather finishing operation is a single process or group of processes used to adjust and improve the physical and aesthetic characteristics of the leather surface through multistage application of a coating comprising of dyes, pigments, film-forming materials, and performance modifiers dissolved or suspended in liquid carriers. A leather finishing operation is subject to the regulation only if it is a major source of hazardous air pollutant (HAP) emitting, or has the potential to emit, any single HAP at the rate of 10 tons (9.07 megagrams) or more per year, or any combination of HAP at the rate of 25 tons (22.68 megagrams) or more per year.

Owners and operators must submit notification reports upon the construction or reconstruction of any leather finishing operation. Any leather finishing operation that starts up after proposal, but before promulgation, must submit an initial notification similar to the one submitted by existing sources. Each new or reconstructed source that starts up after promulgation must submit a series of notifications in addition to the initial notification that includes notification of intent to construct or reconstruct, and notification of startup. Upon the collection of twelve months of data after the date of initial notification, owners or operators of leather finishing operations must submit an annual compliance status certification report and, thereafter, annually.

Owners or operators of a leather finishing operation subject to the rule must maintain a file of these measurements, and retain the file for at least five years following the date of such measurements, maintenance reports, and records. All reports are sent to the delegated state or local authority. In the event that there is no such delegated authority, the reports are sent directly to the EPA regional office. This information is being collected to assure compliance with 40 CFR part 63, subpart TTTT, and 40 CFR part 63, subpart A, as authorized in sections 112 and 114(a) of the Clean Air Act. The required information consists of emissions data and other information that have been determined to be private.

Burden Statement: The annual public reporting and recordkeeping burden for this collection of information estimated to average 33 hours per response. Burden means the total time, effort, or financial resources expended by persons to generate, maintain, retain, or disclose and provide information to or for a Federal agency. This includes the time needed to review instructions; develop, acquire, install, and utilize technology and systems for the purposes of collecting, validating, and verifying information, processing and maintaining information, and disclosing and providing information. All existing ways will have to adjust to comply with any previously applicable instructions and requirements that have subsequently changed; train personnel to be able to respond to a collection of information; search data sources; complete and review the collection of information; and transmit or otherwise disclose the information.

Respondents/Affected Entities: Leather finishing operations.

Estimated Number of Respondents: 10.

Frequency of Response: Initially, occasionally, and annually.

Estimated Total Annual Hour Burden: 334.

Estimated Total Annual Cost: $31,495.00, inclusion of labor costs. There are no capital/startup costs, and no operation and maintenance (O&M) costs.

Changes in the Estimates: There is no change in the labor hours in this ICR as compared to the Previous ICR. This situation is due to two considerations: (1) the regulations have not changed over the past three years and not anticipated to change over the next three years; and (2) the growth rate for the industry is very low, negative, or non-existent, so there is no significant change in the overall burden. There is, however, an increase in the estimated burden cost as currently identified in the OMB Inventory of Approved ICR Burdens. The increase is not due to any program changes. The change in burden cost is due to the use of the most updated labor rates.

Dated: September 13, 2011.
John Moses,
Director, Collection Strategies Division.

[FR Doc. 2011-24108 Filed 9-19-11; 8:45 am]

BILLING CODE 6560-50-P